FEDERAL MINE SAFETY AND HEALTH REVIEW COMMISSION

Sunshine Act Meeting Notice

December 20, 2013.

TIME AND DATE: 10:00 a.m., Wednesday, January 8, 2014

PLACE: The Richard V. Backley Hearing Room, Room 511N, 1331 Pennsylvania Avenue NW., Washington, DC 20004 (entry from F Street entrance)

STATUS: Closed

MATTERS TO BE CONSIDERED: The Commission will consider and act upon the following in a closed session: Secretary of Labor v. Knox Creek Coal Corporation, Docket Nos. VA 2010-81-R, et al. (Issues include whether the Administrative Law Judge erred in concluding that certain violations were not “significant and substantial.”)

CONTACT PERSON FOR MORE INFO: Jean Ellen (202) 434-9950/(202) 708-9300 for TDD Relay/1-800-877-8339 for toll free.

Emogene Johnson,
Administrative Assistant.

[FR Doc. 2013-31058 Filed 12-23-13; 4:15 pm]

BILLING CODE 6735-01-P